DEPARTMENT OF TRANSPORTATION

Federal Motor Carrier Safety Administration

Sunshine Act Meetings; Unified Carrier Registration Plan Board of Directors

AGENCY: Federal Motor Carrier Safety Administration (FMCSA), DOT.

Time and Date: May 8, 2008, 11 a.m. to 2 p.m., 11 a.m. to 2 p.m., Eastern Daylight Time.

Place: This meeting will take place telephonically. Any interested person may call Mr. Avelino Gutierrez at (505) 827-4565 to receive the toll free numbers and pass codes needed to participate in these meetings by telephone.

Status: Open to the public.

Matters to be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Dated: April 1, 2008.
William A. Quade,
Associate Administrator for Enforcement and Program Delivery.

[FR Doc. E8-7241 Filed 4-7-08; 8:45 am]

BILLING CODE 4910-EX-P